DEPARTMENT OF COMMERCE

International Trade Administration

[C-357-813]

Notice of Extension of Time Limit for Final Results of Countervailing Duty Administrative Review: Honey From Argentina

AGENCY: Import Administration, International Trade Administration, U.S. Department of Commerce.

EFFECTIVE DATE: February 14, 2005.

FOR FURTHER INFORMATION CONTACT: Dara Iserson or Thomas Gilgunn at (202) 482-4052 and (202) 482-4236, respectively; AD/CVD Operations, Office 6, Import Administration, International Trade Administration, U.S. Department of Commerce, 14th Street and Constitution Avenue, NW., Washington, DC 20230.

Background

On January 15, 2004, the Department of Commerce (the Department) initiated an administrative review of the countervailing duty order on Honey from Argentina with respect to the Government of Argentina (GOA). See Notice of Initiation of Antidumping and Countervailing Duty Administrative Reviews and Requests for Revocation in Part, 69 FR 3117 (January 22, 2004). The period of review (POR) is January 1, 2003, through December 31, 2003. On December 13, 2004, the Department released the preliminary results. See Honey from Argentina: Preliminary Results of Countervailing Duty Administrative Review, 69 FR 7645 (December 21, 2004).

Statutory Time Limits

Section 351.213(h)(1) of the regulations requires the Department to issue the preliminary results of review within 245 days after the last day of the anniversary month of the order or suspension agreement for which the administrative review was requested, and the final results of an administrative review within 120 days after the date on which notice of preliminary results is published in the Federal Register. However, if the Department determines that it is not practicable to complete and review within the aforementioned specified time limits, section 351.213(h)(2) allows the Department to extend the 245-day-period to 365 days and to extend the 120-day period to 180 days.

Extension of Time Limit for Final Results

Pursuant to section 751(a)(3)(A) of the Tariff Act of 1930, as amended (the Act) and section 351.213(h)(2) of the regulations, due to the complexity of issues related to certain loan programs and because the Department intends to verify the GOA's questionnaire responses, the Department finds that it is not practicable to complete this review by the current deadline of April 20, 2005. Therefore, the Department is extending the deadline for completion of the final results of the administrative review of the countervailing duty order on honey from Argentina by 60 days. The final results of the review will now be due no later than June 19, 2005, which is 180 days after the publication of the preliminary results. This notice is published pursuant to sections 751(a)(3)(A) and 777(i)(1) of the Act.

Dated: February 7, 2005.
Barbara E. Tillman,
Acting Deputy Assistant Secretary for Import Administration.

[FR Doc. 05-2739 Filed 2-11-05; 8:45 am]

BILLING CODE 3510-DS-M